DEPARTMENT OF HEALTH AND HUMAN SERVICES

Centers for Disease Control and Prevention

[30Day-24-24BG]

Agency Forms Undergoing Paperwork Reduction Act Review

In accordance with the Paperwork Reduction Act of 1995, the Centers for Disease Control and Prevention (CDC) has submitted the information collection request titled “National Center for Chronic Disease Prevention and Health Promotion: Work Plans, Progress Monitoring, and Evaluation Reporting (NCCDPHP WPPMER)” to the Office of Management and Budget (OMB) for review and approval. CDC previously published a “Proposed Data Collection Submitted for Public Comment and Recommendations” notice on December 1, 2023 to obtain comments from the public and affected agencies. CDC received two comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

NCCDPHP Work Plans, Progress Monitoring, and Evaluation Reporting—New—National Center for Chronic Disease Prevention and Health Promotion (NCCDPHP), Centers for Disease Control and Prevention (CDC).

Background and Brief Description

Each year, more than 80% of the Centers for Disease Control and Prevention (CDC) and the National Center for Chronic Disease Prevention and Health Promotion's (NCCDPHP) budget is distributed to awardees such as State health departments, universities, and other organizations, primarily through cooperative agreements. The structure of cooperative agreements is such that awardees and CDC project officers, subject matter experts, and technical monitors work together on designing projects intended to improve public health. CDC/NCCDPHP seeks OMB approval to use Generic Information Collection Request (ICR) templates to collect work plan, monitoring, and/or evaluation information from cooperative agreement awardees.

NCCDPHP does not currently have a single information collection mechanism that encompasses all collection needs for all cooperative agreements. The purpose of this generic ICR is to allow the creation of individualized templates or forms for each phase of each award. OMB approval is requested for three years. The total annualized burden hours are 21,380. There is no cost to respondents other than their time to participate.

Estimated Annualized Burden Hours
Type of respondent | Type of form | Number of respondents | Number of responses per respondent | Average burden per response (in hours)
Comprehensive Cancer Control Program Award Recipients | Evaluation Plan | 66 | 1 | 6
National Breast and Cervical Cancer Early Detection Program Award Recipients | Work Plan | 64 | 1 | 6
National Program of Cancer Registries Award Recipients | Evaluation Report | 50 | 1 | 12
Other CDC/NCCDPHP Award Recipients | Other Reporting Forms | 2,000 | 1 | 10

Jeffrey M. Zirger,
Lead, Information Collection Review Office, Office of Public Health Ethics and Regulations, Office of Science, Centers for Disease Control and Prevention.

[FR Doc. 2024-12231 Filed 6-3-24; 8:45 am]

BILLING CODE 4163-18-P